DEPARTMENT OF COMMERCE

Foreign-Trade Zones Board

[Order No. 1957]

Restricted Approval for Production Authority, Foreign-Trade Zone 83, Toray Carbon Fibers America, Inc. (Carbon Fiber); Decatur, AL

Pursuant to its authority under the Foreign-Trade Zones Act of June 18, 1934, as amended (19 U.S.C. 81a-81u), the Foreign-Trade Zones Board (the Board) adopts the following Order:

WHEREAS, the Huntsville-Madison County Airport Authority, grantee of FTZ 83, has requested authority on behalf of Toray Carbon Fibers America, Inc. (Toray), to use polyacrylonitrile (PAN) fiber and other inputs to produce carbon fiber and PAN fiber under FTZ procedures at Toray's facility in Decatur, Alabama (B-58-2013, docketed 05-30-2013);

WHEREAS, notice inviting public comment has been given in the Federal Register (78 FR 35603-35604, 6/13/2013; and 79 FR 15725, 3/21/2014) and the application has been processed pursuant to the FTZ Act and the Board's regulations; and,

WHEREAS, the Board adopts the findings and recommendations of the examiner's report, and finds that the requirements of the FTZ Act and the Board's regulations would be satisfied, and that the proposal would be in the public interest, if subject to the restriction listed below;

NOW, THEREFORE, the Board hereby orders:

The application for production authority under zone procedures at the Toray facility in Decatur, Alabama, as described in the application and Federal Register notice, is approved, subject to the FTZ Act and the Board's regulations, including Section 400.13, and further subject to a restriction that all foreign-status PAN fiber admitted for Toray's production activity must be re-exported (entry for U.S. consumption is not authorized).

Signed at Washington, DC, this 6 day of December 2014.
Paul Piquado,
Assistant Secretary of Commerce for Enforcement and Compliance, Alternate Chairman, Foreign-Trade Zones Board.

[FR Doc. 2014-29342 Filed 12-12-14; 8:45 am]

BILLING CODE 3510-DS-P